DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Board on Coastal Engineering Research (“the Board”).

FOR FURTHER INFORMATION CONTACT: Jim Freeman, Advisory Committee Management Officer for the Department of Defense, 703-692-5952.

SUPPLEMENTARY INFORMATION: This committee's charter is being renewed pursuant to 33 U.S.C. 426-2 and in accordance with the Federal Advisory Committee Act (FACA) of 1972 (5 U.S.C., Appendix, as amended) and 41 CFR 102-3.50(a).

The Board is a non-discretionary Federal advisory committee that shall provide the Coastal and Hydraulics Laboratory, which includes the Coastal Engineering Research Center, through the Chief of Engineers/Commander (“the Chief of Engineers”), U.S. Army Corps of Engineers (“the Corps of Engineers”), independent advice and recommendations on coastal engineering research priorities and additional functions as assigned by the Chief of Engineers. The Board shall report to the Secretary of the Army, through the Chief of Engineers/Commander, U.S. Army Corps of Engineers. The Chief of Engineers/Commander, U.S. Army Corps of Engineers, may act upon the Board's advice and recommendations.

The Board, pursuant to 33 U.S.C. 426-2, shall be composed of seven members who are appointed by the Secretary of Defense or the Deputy Secretary of Defense.

DoD, pursuant to the authorizing legislation, shall appoint four officers of the Corps of Engineers to the Board as ex officio appointments, with one position being occupied by the Deputy Commanding General for Civil and Emergency Operations, U.S. Army Corps of Engineers. The Chief of Engineers, in consultation with the Assistant Secretary of the Army (Civil Works), shall determine which three of the eight coastal division commanders shall be nominated as the other ex officio members of the Board. The Chief of Engineers, in determining which of the coastal division commanders shall serve on the Board, shall consider the individual's tenure as a division commander and his or her expertise in the matters before the Board.

The three civilian Board members shall be civilian engineers recommended by the Chief of Engineers for their expertise in the field of beach erosion, shore protection, and coastal processes and infrastructure.

The Deputy Commanding General for Civil and Emergency Operations, U.S. Army Corps of Engineers, shall serve as the President of the Board.

Board members who are not full-time or permanent part-time Federal officers or employees shall be appointed as experts or consultants pursuant to 5 U.S.C. 3109 to serve as special government employee (SGE) members. Board members who are full-time or permanent part-time Federal officers or employees shall be appointed pursuant to 41 CFR 102-3.130(a) to serve as regular government employee (RGE) members.

The Secretary of Defense, or the Deputy Secretary of Defense, may approve the appointment of civilian Board members and the three coastal division commanders for terms of service of one-to-four years with annual renewals. However, no member, unless authorized by the Secretary of Defense or the Deputy Secretary of Defense, may serve more than two consecutive terms of service.

Pursuant to section 105 of Public Law 91-611, Board members, who are not full-time or permanent part-time Federal officers or employees, may be paid at rates not to exceed the daily equivalent of the rate for a GS-15, step 10, for each day of attendance at Board meetings, not to exceed 30 days per year, in addition to travel and other necessary expenses connected with their official duties on the Board, in accordance with the provisions of 5 U.S.C. 5703(b), (d), and 5707. RGE members may be reimbursed for official Board-related travel and per diem.

The DoD, when necessary and consistent with the Board's mission and DoD policies and procedures, may establish subcommittees, task forces, or working groups to support the Board. Establishment of subcommittees will be based upon a written determination, to include terms of reference, by the Secretary of Defense, the Deputy Secretary of Defense, or the Secretary of the Army, as the DoD sponsor.

Such subcommittees shall not work independently of the Board and shall report all of their recommendations and advice solely to the Board for full and open deliberation and discussion. Subcommittees, task forces, or working groups have no authority to make decisions and recommendations, verbally or in writing, on behalf of the Board. No subcommittee or its members can update or report, verbally or in writing, on behalf of the Board, directly to the DoD or to any Federal officer or employee.

The Secretary of Defense or the Deputy Secretary of Defense will appoint subcommittee members to a term of service of one-to-four years, with annual renewals, even if the member in question is already a member of the Board.

Subcommittee members, if not full-time or part-time Federal officers or employees, shall be appointed as experts or consultants pursuant to 5 U.S.C. 3109 to serve as SGE members. Subcommittee members who are full-time or permanent part-time Federal officers or employees will serve as RGE members pursuant to 41 CFR 102-3.130(a).

Each subcommittee member is appointed to provide advice to the government on the basis of his or her best judgment without representing any particular point of view and in a manner that is free from conflict of interest. Subcommittee members may be compensated, and shall be allowed travel expenses, in the same manner as the Board members.

All subcommittees operate under the provisions of FACA, the Sunshine Act, governing Federal statutes and regulations, and established DoD policies and procedures.

The estimated number of Board meetings is two per year.

The Board's Designated Federal Officer (DFO), pursuant to DoD policy, shall be a full-time or permanent part-time DoD employee appointed in accordance with governing DoD policies and procedures.

The Board's DFO is required to be in attendance at all meetings of the Board and any of its subcommittees for the entire duration of each and every meeting. However, in the absence of the Board's DFO, a properly approved Alternate DFO, duly appointed to the Board according to established DoD policies and procedures, shall attend the entire duration of the Board or any subcommittee meeting.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Board on Coastal Engineering Research membership about the Board's mission and functions. Written statements may be submitted at any time or in response to the stated agenda of planned meeting of the Board on Coastal Engineering Research.

All written statements shall be submitted to the DFO for the Board on Coastal Engineering Research, and this individual will ensure that the written statements are provided to the membership for their consideration. Contact information for the Board on Coastal Engineering Research DFO can be obtained from the GSA's FACA Database— http://www.facadatabase.gov/.

The DFO, pursuant to 41 CFR 102-3.150, will announce planned meetings of the Board on Coastal Engineering Research. The DFO, at that time, may provide additional guidance on the submission of written statements that are in response to the stated agenda for the planned meeting in question.

Dated: March 2, 2015.
Aaron Siegel,
Alternate OSD Federal Register Liaison Officer, Department of Defense.

[FR Doc. 2015-05040 Filed 3-4-15; 8:45 am]

BILLING CODE 5001-06-P